DEPARTMENT OF STATE

[Public Notice 11508]

Notice of Public Meeting in Preparation for International Maritime Organization Meeting

The Department of State will conduct a public meeting at 10:00 a.m. on Thursday, September 16, 2021, by way of teleconference. Members of the public may participate up to the capacity of the teleconference phone line, which can handle 500 participants. To access the teleconference line, participants should contact the meeting coordinator, LCDR Jessica Anderson, by email at jessica.p.anderson@uscg.mil.

The primary purpose of the meeting is to prepare for the seventy-first session of the International Maritime Organization's (IMO) Technical Cooperation Committee (TC 71) to be held remotely from Monday, September 20, 2021 to Friday, September 24, 2021.

The agenda items to be considered at the public meeting mirror those to be considered at the IMO TC 71 meeting, and include:

—Adoption of the agenda

—Work of other bodies and organizations

—Integrated Technical Cooperation Programme: Annual report for 2020

—Resource mobilization and partnerships

—The 2030 Agenda for Sustainable Development

—Report of the evaluation of the ITCP activities for the period of 2016-2019

—Long-term strategy for the review and reform of IMO's technical cooperation

—Regional presence and coordination

—IMO Member State Audit Scheme

—Capacity-building: Strengthening the impact of women in the maritime sector

—Global maritime training institutions

—Application of the document on the Organization and method of work of the Technical Cooperation Committee

—Work programme

—Election of Chair and Vice-Chair for 2022

—Any other business

—Consideration of the report of the Committee on its seventy-first session

Please note: the IMO may, on short notice, adjust the TC 71 agenda to accommodate the constraints associated with the virtual meeting format. Any changes to the agenda will be reported to those who RSVP and those in attendance at the meeting.

Those who plan to participate may contact the meeting coordinator, LCDR Jessica Anderson, by email at Jessica.P.Anderson@uscg.mil, or in writing at 2703 Martin Luther King Jr. Ave. SE, Stop 7509, Washington, DC 20593-7509. Members of the public needing reasonable accommodation should advise LCDR Jessica Anderson not later than September 13, 2021. Requests made after that date will be considered, but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2021-18000 Filed 8-20-21; 8:45 am]

BILLING CODE 4710-05-P